DEPARTMENT OF COMMERCE

National Telecommunications and Information Administration

First Responder Network Authority

First Responder Network Authority Board Meeting

AGENCY: First Responder Network Authority (FirstNet), National Telecommunications and Information Administration, Commerce.

ACTION: Public meeting notice.

SUMMARY: The Board of the First Responder Network Authority (FirstNet) will hold a Special Meeting via telephone conference (teleconference) on August 17, 2015.

DATES: The Special Meeting of the FirstNet Board will be held on August 17, 2015, from 10 a.m. to 12 p.m. Eastern Daylight Time.

ADDRESSES: The Special Meeting of the Board will be conducted via teleconference. Members of the public may listen to the meeting by dialing toll-free 1-888-997-9859 and using passcode 3572169. Due to the limited number of ports, attendance via teleconference will be on a first-come, first-served basis.

FOR FURTHER INFORMATION CONTACT: Uzoma Onyeije, Secretary, FirstNet, 12201 Sunrise Valley Drive, M/S 243, Reston, VA 20192; telephone: (703) 648-4165; email: uzoma.onyeije@firstnet.gov. Please direct media inquiries to Ryan Oremland at (703) 648-4114.

SUPPLEMENTARY INFORMATION: Background: The Middle Class Tax Relief and Job Creation Act of 2012 (Act), Public Law 112-96, 126 Stat. 156 (2012), created FirstNet as an independent authority within the National Telecommunications and Information Administration (NTIA). The Act directs FirstNet to ensure the establishment of a single nationwide, interoperable public safety broadband network. The FirstNet Board is responsible for making strategic decisions regarding FirstNet's operations. As provided in section 4.08 of the FirstNet Bylaws, the Board through this Notice provides at least two days notice of a Special Meeting of the Board to be held August 17, 2015, from 10 a.m. to 12 p.m. Eastern Daylight Time. The Board may, by a majority vote, close a portion of the Special Meeting as necessary to preserve the confidentiality of commercial or financial information that is proprietary or confidential, to discuss personnel matters, or to discuss legal matters affecting FirstNet, including pending or potential litigation. See 47 U.S.C. 1424(e)(2).

Matters to be Considered: FirstNet will post a detailed agenda for the Special Meeting on its Web site, http://www.firstnet.gov, prior to the meeting. The agenda topics are subject to change.

Time and Date of Meeting: The open public meeting of the full FirstNet Board will be held via teleconference on August 17, 2015, between 10 a.m. and 12 p.m. Eastern Daylight Time. The times and dates are subject to change. Please refer to FirstNet's Web site at www.firstnet.gov for the most up-to-date information.

Other Information: The teleconference for the Special Meeting is open to the public. On the date and time of the Special Meeting, members of the public may call toll-free 1-888-997-9859 and use passcode 3572169 to listen to the meeting. To view the slide presentation, the public may visit https://www.mymeetings.com/nc/join and enter Conference number: 276507910 and audience passcode: Board. As an alternative, members of the public may view the slide presentations by visiting: http://www.mymeetings.com/nc/join.php?sigKey=mymeetings&i=276507910&p=Board&t=c. If you experience technical difficulty, please contact Eli Veenendaal by telephone at (703) 648-4167 or via email at elijah.veenendaal@firstnet.gov. Public access will be limited to listen-only. Due to the limited number of ports, attendance via teleconference will be on a first-come, first-served basis. The Special Meeting is accessible to people with disabilities. Individuals requiring accommodations are asked to notify Mr. Onyeije, by telephone at (703) 648-4165 or email at uzoma.onyeije@firstnet.gov, at least two (2) business days before the meeting.

Records: FirstNet maintains records of all Board proceedings. Minutes of the meetings will be available at www.firstnet.gov.

Dated: July 29, 2015.
Eli Veenendaal,
Attorney Advisor, First Responder Network Authority.

[FR Doc. 2015-19006 Filed 7-31-15; 8:45 am]

BILLING CODE 3510-TL-P